DEPARTMENT OF TRANSPORTATION

Federal Aviation Administration

14 CFR Part 39

[Docket No. FAA-2011-0994; Directorate Identifier 2010-NM-143-AD]

RIN 2120-AA64

Airworthiness Directives; Bombardier, Inc. Model CL-600-2C10 (Regional Jet Series 700, 701, & 702), CL-600-2D15 (Regional Jet Series 705), and CL-600-2D24 (Regional Jet Series 900) Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

The right-hand inboard main landing gear (MLG) door of a CRJ 700 departed the aircraft during the landing phase of flight. The door damaged the trailing edge flap and punctured the rear fuselage near the floor level. The aircraft landed safely. Preliminary investigation indicates the failure was initiated by fatigue of the panel structure near a panel hinge lug. Loss of the main landing gear door during flight could result in damage to the aircraft and injury to persons on the ground.

* * * * *

The proposed AD would require actions that are intended to address the unsafe condition described in the MCAI.

DATES: We must receive comments on this proposed AD by November 21, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Daniel Parrillo, Program Manager, Continuing Operational Safety, FAA, New York Aircraft Certification Office (ACO), 1600 Stewart Avenue, Suite 410, Westbury, New York 11590; telephone 516-228-7300; fax (516) 794-5531.

SUPPLEMENTARY INFORMATION:

Comments Invited

We invite you to send any written relevant data, views, or arguments about this proposed AD. Send your comments to an address listed under the ADDRESSES section. Include “Docket No. FAA-2011-0994; Directorate Identifier 2010-NM-143-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 28, 2006, we issued AD 2006-14-05, Amendment 39-14676 (71 FR 38979, July 11, 2006). That AD required actions intended to address an unsafe condition on the products listed above.

Since we issued AD 2006-14-05, Amendment 39-14676 (71 FR 38979, July 11, 2006), we have determined it is necessary to require a new modification of the MLG door configuration. We have also removed airplanes equipped with the new MLG door during production from the applicability of this NPRM. Transport Canada Civil Aviation (TCCA), which is the aviation authority for Canada, has issued Canadian Airworthiness Directive CF-2003-23R3, dated May 21, 2010 (referred to after this as “the MCAI”), to correct an unsafe condition for the specified products. The MCAI states:

The right-hand inboard main landing gear (MLG) door of a CRJ 700 departed the aircraft during the landing phase of flight. The door damaged the trailing edge flap and punctured the rear fuselage near the floor level. The aircraft landed safely. Preliminary investigation indicates the failure was initiated by fatigue of the panel structure near a panel hinge lug. Loss of the main landing gear door during flight could result in damage to the aircraft and injury to persons on the ground.

Subsequent to the issuance of Revision 1 of this directive, Transport Canada (TC) approved an alternate means of compliance (AMOC), AARDG 2004/A007, to allow extension of the repeat inspection interval when inboard MLG doors have incorporated certain repairs or modifications.

Subsequent to the issuance of the TC AMOC AARDG 2004/A007, an inboard MLG door departed from an aircraft operating under an AMOC equivalent to TC AMOC AARDG 2004/007. As a result of this incident, this directive was revised to Revision 2 to introduce additional inspection requirements according to Bombardier Alert Service Bulletin A670-32-016. In addition, Revision 2 also eliminated escalation of the repeat inspection interval allowed in TC AMOC AARDG 2004/007 and revised the aircraft applicability to add a new aircraft model.

Since the issuance of Revision 2 of this directive, TC approved an AMOC, AARDG 2006-A051, to allow the installation of a new modified MLG door configuration and to perform alternative inspection. Service history shows that this new modified MLG door configuration resolves the safety concerns associated with this directive.

Revision 3 of this directive mandates the incorporation of the new modified MLG door configuration in accordance with Bombardier Aerospace Service Bulletin (SB) 670BA-32-017 as the terminating action. In addition, this revision restricts the applicability to aircraft not equipped with the new modified MLG door configuration at delivery.

You may obtain further information by examining the MCAI in the AD docket.

We have also revised paragraph (j)(2) of this NPRM to remove reference to Task Cards 32-12-01-000-801-A01 and 32-12-01-400-801-A01 of the Bombardier CRJ 700/900 Series Regional Jet Aircraft Maintenance Manual. We added Note 2 to this NPRM to refer to these tasks cards as additional sources of guidance for replacing the lower panel assembly. Operators may contact the International Branch, ANM-116, Transport Airplane Directorate, FAA, for information regarding the use of the task cards for replacing the lower panel assembly, as required by paragraph (j)(2) of this AD.

Relevant Service Information

Bombardier has issued Alert Service Bulletin A670BA-32-016, Revision F, dated May 14, 2010, including Appendices A and B, dated June 2, 2005; and Service Bulletin 670BA-32-017, Revision C, dated May 14, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 220 products of U.S. registry.

The actions that are required by AD 2006-14-05, Amendment 39-14676 (71 FR 38979, July 11, 2006), and retained in this proposed AD take about 3 work-hours per product, at an average labor rate of $85 per work hour. Based on these figures, the estimated cost of the currently required actions is $255 per product.

We estimate that it would take about 115 work-hours per product to comply with the new basic requirements of this proposed AD. The average labor rate is $85 per work-hour. Required parts would cost about $0 per product. Where the service information lists required parts costs that are covered under warranty, we have assumed that there will be no charge for these costs. As we do not control warranty coverage for affected parties, some parties may incur costs higher than estimated here. Based on these figures, we estimate the cost of the proposed AD on U.S. operators to be $2,150,500, or $9,775 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14676 (71 FR 38979, July 11, 2006) and adding the following new AD:

Bombardier, Inc.: Docket No. FAA-2011-0994; Directorate Identifier 2010-NM-143-AD.

Comments Due Date

(a) We must receive comments by November 21, 2011.

Affected ADs

(b) This AD supersedes AD 2006-14-05, Amendment 39-14676 (71 FR 38979, July 11, 2006).

Applicability

(c) This AD applies to Bombardier, Inc. Model CL-600-2C10 (Regional Jet Series 700, 701, & 702) airplanes having serial numbers (S/Ns) 10003 through 10230 inclusive; and Model CL-600-2D15 (Regional Jet Series 705) airplanes; and Model CL-600-2D24 (Regional Jet Series 900) airplanes having S/Ns 15001 through 15053 inclusive, 15055, and 15056; certificated in any category.

Subject

(d) Air Transport Association (ATA) of America Code 32: Landing gear.

Reason

(e) The mandatory continuing airworthiness information (MCAI) states:

The right-hand inboard main landing gear (MLG) door of a CRJ 700 departed the aircraft during the landing phase of flight. The door damaged the trailing edge flap and punctured the rear fuselage near the floor level. The aircraft landed safely. Preliminary investigation indicates the failure was initiated by fatigue of the panel structure near a panel hinge lug. Loss of the main landing gear door during flight could result in damage to the aircraft and injury to persons on the ground.

* * * * *

Compliance

(f) You are responsible for having the actions required by this AD performed within the compliance times specified, unless the actions have already been done.

Restatement of Requirements of AD 2003-19-51, Amendment 39-13353 (68 FR 61615, October 29, 2003), With Revised Serial Numbers and Service Information

Initial Compliance Time

(g) For Model CL-600-2C10 (Regional Jet series 700 & 701) series airplanes, S/Ns 10003 through 10230 inclusive; and Model CL-600-2D24 (Regional Jet series 900) series airplanes, S/Ns 15002 through 15053 inclusive, 15055, and 15056: Perform the initial inspection specified in paragraph (h) of this AD at the applicable time specified in paragraph (g)(1) or (g)(2) of this AD.

(1) For airplanes with fewer than 1,500 total flight cycles as of November 3, 2003 (the effective date of AD 2003-19-51, Amendment 39-13353 (68 FR 61615, October 29, 2003)): Do the inspections before the accumulation of 1,050 total flight cycles, or within 50 flight cycles after August 15, 2006 (the effective date of AD 2006-14-05, Amendment 39-14676 (71 FR 38979, July 11, 2006)), whichever is later.

(2) For airplanes with 1,500 or more total flight cycles as of November 3, 2003: Do the inspections within 10 flight cycles after August 15, 2006.

Inspections

(h) For Model CL-600-2C10 (Regional Jet series 700 & 701) series airplanes, S/Ns 10003 through 10230 inclusive; and Model CL-600-2D24 (Regional Jet series 900) series airplanes, S/Ns 15002 through 15053 inclusive, 15055 and 15056: At the applicable time specified in paragraph (g) of this AD, perform detailed inspections of the lower panel, part number (P/N) CC670-10520, of the left- and right-hand MLG doors for the conditions and in the areas specified in paragraphs (h)(1), (h)(2), (h)(3), and (h)(4) of this AD; and Figures 1, 2, and 3 of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Inspect the cross member, P/N CC670-10572, of the MLG door lower panel for cracking or deformation, in accordance with Figure 2 of this AD.

(2) Inspect the inner skin, P/N CC670-10577, of the MLG door lower panel at the cross member (P/N CC670-10572) for cracking or deformation, or pulled or missing fasteners, in accordance with Figure 2 of this AD.

(3) Inspect the outer skin, P/N CC670-10574, of the MLG door lower panel at the cross member (P/N CC670-10572) for cracking or deformation, or pulled or missing fasteners, in accordance with Figure 2 of this AD.

(4) Inspect the forward member, P/N CC670-10570, and aft member, P/N CC670-10571, of the MLG door lower panel for cracking or deformation, or pulled or missing fasteners, in accordance with Figure 3 of this AD. Figures 1 through 3 of this AD follow.

BILLING CODE 4910-13-P

BILLING CODE 4910-13-C

Repetitive Inspections

(i) If no cracking or deformation, or pulled or missing fastener, as applicable, is found during any inspection required by paragraph (h) or (i) of this AD, repeat the inspections thereafter at intervals not to exceed 100 flight cycles.

Corrective Actions

(j) If any cracking or deformation, or pulled or missing fastener, as applicable, is found during any inspection done in accordance with paragraph (h) or (i) of this AD: Before further flight, accomplish paragraph (j)(1), (j)(2), or (j)(3) of this AD.

(1) Repair the damage in accordance with a method approved by either the Manager, New York Aircraft Certification Office (ACO), FAA; or Transport Canada Civil Aviation (TCCA) (or its delegated agent); and accomplish repetitive inspections in accordance with a method and at a repetitive interval approved by same.

(2) Replace the lower panel assembly, P/N CC670-10520, of the affected MLG door with a new or serviceable lower panel assembly having the same P/N, according to a method approved by either the Manager, New York ACO, FAA; or TCCA (or its delegated agent). Repeat the inspections specified in paragraph (h) of this AD at intervals not to exceed 100 flight cycles.

Note 2: For guidance on replacing the lower panel assembly, refer to Task Cards 32-12-01-000-801-A01 and 32-12-01-400-801-A01 of the Bombardier CRJ 700/900 Series Regional Jet Aircraft Maintenance Manual.

(3) Remove the lower panel assembly, P/N CC670-10520, of the affected MLG door, and accomplish paragraph (j)(3)(i) or (j)(3)(ii) of this AD, as applicable.

(i) For Model CL600-2C10 (Regional Jet series 700 & 701) series airplanes: Revise the Configuration Deviation List (CDL), Appendix 1, of the airplane flight manual (AFM), to include the following limitations. This may be accomplished by inserting a copy of this AD into the CDL of the AFM.

“For Model CL600-2C10 series airplanes: If one or both door panel assemblies, part number CC670-10520, is missing:

(1) Take-off Weight is reduced by 202.5 kg/door, or 450 lb/door.

(2) Enroute Climb Weight is reduced by 445.5 kg/door, or 990 lb/door.

(3) Landing Weight is reduced by 202.5 kg/door, or 450 lb/door.

(4) Fuel Consumption is increased by +3.42% on fuel used/door.

(5) Cruise Airspeed is limited to not more than 0.78 Mach.”

(ii) For Model CL-600-2D24 (Regional Jet series 900) series airplanes: Revise the CDL, Appendix 1, of the AFM, to include the following limitations. This may be accomplished by inserting a copy of this AD into the CDL of the AFM.

“For Model CL600-2D24 series airplanes: If one or both door panel assemblies, part number CC670-10520, is missing:

(1) Take-off Weight is reduced by 245 kg/door, or 540 lb/door.

(2) Enroute Climb Weight is reduced by 551 kg/door, or 1,215 lb/door.

(3) Landing Weight is reduced by 245 kg/door, or 540 lb/door.

(4) Fuel Consumption is increased by +3.42% on fuel used/door.

(5) Cruise Airspeed is limited to not more than 0.78 Mach.”

Restatement of Requirements of AD 2006-14-05, Amendment 39-14676 (71 FR 38979, July 11, 2006), With Revised Service Information:

Inboard MLG Door Inspections

(k) For all airplanes on which an inspection has not been done in accordance with paragraph (h) of this AD on or before August 15, 2006: At the applicable time specified in paragraph (k)(1) or (k)(2) of this AD, do the inspections of the left- and right-hand inboard MLG doors for damage, in accordance with Part A of the Accomplishment Instructions of Bombardier Alert Service Bulletin A670BA-32-016, Revision A, dated June 7, 2005, excluding Appendix A, dated June 2, 2005, and including Appendix B, dated June 2, 2005; or Bombardier Alert Service Bulletin A670BA-32-016, Revision F, dated May 14, 2010, excluding Appendix A, dated June 2, 2005, and including Appendix B, dated June 2, 2005. Doing the inspections required by this paragraph terminates the actions required by paragraphs (g) through (j) of this AD. As of the effective date of this AD, use only Bombardier Alert Service Bulletin A670BA-32-016, Revision F, dated May 14, 2010.

(1) For airplanes that have accumulated fewer than 1,500 total flight cycles as of August 15, 2006: Before the accumulation of 1,000 total flight cycles, or within 50 flight cycles after August 15, 2006, whichever occurs later.

(2) For airplanes that have accumulated 1,500 flight cycles or more as of August 15, 2006: Within 10 flight cycles after August 15, 2006.

(l) For airplanes on which an inspection has been done in accordance with paragraph (h) of this AD on or before August 15, 2006: At the applicable time specified in paragraph (l)(1) or (l)(2) of this AD, inspect installed door(s) as specified in paragraph (k) of this AD. Doing the inspections required by this paragraph terminates the actions required by paragraphs (g) through (j) of this AD.

(1) For airplanes that are not subject to an approved alternative method of compliance (AMOC) that extends the inspection interval to 450 flight cycles: Within 100 flight cycles since the last inspection done in accordance with paragraph (h) of this AD.

(2) For airplanes that are subject to an approved AMOC that extends the inspection interval to 450 flight cycles: At the earlier of the times specified in paragraphs (l)(2)(i) and (l)(2)(ii) of this AD:

(i) Within 450 flight cycles since the last inspection done in accordance with paragraph (h) of this AD.

(ii) Within 100 flight cycles since the last inspection done in accordance with paragraph (h) of this AD, or within 50 cycles after August 15, 2006, whichever occurs later.

(m) If no damage is found during any inspection done in accordance with paragraph (k) of this AD, repeat the inspections specified in paragraph (k) of this AD thereafter at intervals not to exceed 100 flight cycles.

Corrective Action—Replace or Remove MLG Door

(n) If any damage is found during any inspection done in accordance with paragraph (k) of this AD, before further flight, do the actions in paragraph (n)(1) or (n)(2) of this AD. Repeat the inspections specified in paragraph (k) of this AD thereafter at intervals not to exceed 100 flight cycles.

(1) Replace the inboard MLG door with a new or repaired door in accordance with Part B of the Accomplishment Instructions of the Bombardier Alert Service Bulletin A670BA-32-016, Revision A, dated June 7, 2005, excluding Appendix A, dated June 2, 2005, and including Appendix B, dated June 2, 2005; or Bombardier Alert Service Bulletin A670BA-32-016, Revision F, dated May 14, 2010, excluding Appendix A, dated June 2, 2005, and including Appendix B, dated June 2, 2005; except where those service bulletins specify to contact the manufacturer for repair if no generic repair engineering order (REO) is available, before further flight, repair using a method approved by either the Manager, New York ACO, FAA; or TCCA (or its delegated agent). As of the effective date of this AD, use only Bombardier Alert Service Bulletin A670BA-32-016, Revision F, dated May 14, 2010.

(2) Remove the inboard MLG door in accordance with Part B of the Accomplishment Instructions of the Bombardier Alert Service Bulletin A670BA-32-016, Revision A, dated June 7, 2005, excluding Appendix A, dated June 2, 2005, and including Appendix B, dated June 2, 2005; or Bombardier Alert Service Bulletin A670BA-32-016, Revision F, dated May 14, 2010, excluding Appendix A, dated June 2, 2005, and including Appendix B, dated June 2, 2005; and accomplish paragraph (n)(2)(i) or (n)(2)(ii) of this AD, as applicable. As of the effective date of this AD, use only Bombardier Alert Service Bulletin A670BA-32-016, Revision F, dated May 14, 2010.

(i) For Model CL-600-2C10 (Regional Jet Series 700, 701, & 702) airplanes and Model CL-600-2D15 (Regional Jet Series 705) airplanes: Revise the Configuration Deviation List (CDL), Appendix 1, of the Bombardier Canadair Regional Jet AFM, to include the following limitations. This may be accomplished by inserting a copy of this AD into the CDL of the AFM. Remove any existing CDL limitation required by paragraph (j)(3)(i) of this AD from the AFM.

“For Model CL-600-2C10 (Regional Jet Series 700, 701, & 702) airplanes and Model CL-600-2D15 (Regional Jet Series 705) airplanes: If one or both door panel assemblies, part number CC670-10520, is missing:

(1) Take-off Weight is reduced by 202.5 kg/door, or 450 lb/door.

(2) Enroute Climb Weight is reduced by 445.5 kg/door, or 990 lb/door.

(3) Landing Weight is reduced by 202.5 kg/door, or 450 lb/door.

(4) Fuel Consumption is increased by +2.5% on fuel used/door.

(5) Cruise Airspeed is limited to not more than 0.78 Mach.

(6) The climb ceiling obtained from the Flight Planning and Cruise Control Manual (FPCCM) must be reduced by 1,000 ft/door.”

Note 3: When a statement with the information specified in paragraph (n)(2)(i) of this AD has been included in the general revisions of the AFM, the general revisions may be inserted into the AFM, and the copy of this AD may be removed from the AFM.

(ii) For Model CL-600-2D24 (Regional Jet Series 900) airplanes: Revise the CDL, Appendix 1, of the Bombardier Canadair Regional Jet AFM, to include the following limitations. This may be accomplished by inserting a copy of this AD into the CDL of the AFM. Remove any existing CDL limitation required by paragraph (j)(3)(ii) of this AD from the AFM.

“For Model CL-600-2D24 (Regional Jet Series 900) airplanes: If one or both door panel assemblies, part number CC670-10520, is missing:

(1) Take-off Weight is reduced by 245 kg/door, or 540 lb/door.

(2) Enroute Climb Weight is reduced by 551 kg/door, or 1,215 lb/door.

(3) Landing Weight is reduced by 245 kg/door, or 540 lb/door.

(4) Fuel Consumption is increased by +2.5% on fuel used/door.

(5) Cruise Airspeed is limited to not more than 0.78 Mach.

(6) The climb ceiling obtained from the Flight Planning and Cruise Control Manual (FPCCM) must be reduced by 1,000 ft/door.”

Note 4: When a statement with the information specified in paragraph (n)(2)(ii) of this AD has been included in the general revisions of the AFM, the general revisions may be inserted into the AFM, and the copy of this AD may be removed from the AFM.

Revise CDL

(o) For airplanes on which the door(s) have been removed in accordance with paragraph (j)(3) of this AD: Within 30 days after August 15, 2006, do the revision specified in paragraph (n)(2)(i) or (n)(2)(ii) of this AD, as applicable, and remove any revision required by paragraph (j)(3)(i) or (j)(3)(ii) of this AD.

No Reporting Required

(p) Although Bombardier Alert Service Bulletin A670BA-32-016, Revision A, dated June 7, 2005, excluding Appendix A, dated June 2, 2005, and including Appendix B, dated June 2, 2005; and Revision F, dated May 14, 2010, excluding Appendix A, dated June 2, 2005, and including Appendix B, dated June 2, 2005; specify to submit certain information to the manufacturer, this AD does not include that requirement.

Actions Accomplished According to Previous Issue of Service Bulletin

(q) Actions accomplished before August 15, 2006, according to Bombardier Alert Service Bulletin A670BA-32-016, dated June 2, 2005, are considered acceptable for compliance with the corresponding actions of this AD.

New Requirements of This AD

Terminating Modification for MLG Door Configuration

(r) Within 6,000 flight hours after the effective date of this AD, modify the MLG door, in accordance with the Accomplishment Instructions of Bombardier Service Bulletin 670BA-32-017, Revision C, dated May 14, 2010. Doing this modification terminates the requirements of this AD.

Credit for Actions Accomplished in Accordance With Previous Service Information

(s) Modifying the MLG door before the effective date of this AD, in accordance with the Accomplishment Instructions of Bombardier Service Bulletin 670BA-32-017, dated July 24, 2006; Revision A, dated September 26, 2006; or Revision B, dated July 31, 2008; as applicable; is considered acceptable for compliance with the requirements of paragraph (r) of this AD.

FAA AD Differences

Note 5: This AD differs from the MCAI and/or service information as follows: No differences.

Other FAA AD Provisions

(t) The following provisions also apply to this AD:

(1) Alternative Methods of Compliance (AMOCs): The Manager, New York ACO, ANE-170, FAA, has the authority to approve AMOCs for this AD, if requested using the procedures found in 14 CFR 39.19. Send information to Attention: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD. AMOCs approved previously in accordance with AD 2006-14-05, Amendment 39-14676 (71 FR 38979, July 11, 2006), are acceptable for compliance with this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(u) Refer to MCAI TCCA Airworthiness Directive CF-2003-23R3, dated May 21, 2010; Bombardier Alert Service Bulletin A670BA-32-016, Revision F, dated May 14, 2010, excluding Appendix A, dated June 2, 2005, and including Appendix B, dated June 2, 2005; and Bombardier Service Bulletin 670BA-32-017, Revision C, dated May 14, 2010; for related information.

Issued in Renton, Washington, on September 22, 2011.
Ali Bahrami,
Manager, Transport Airplane Directorate, Aircraft Certification Service.

[FR Doc. 2011-25571 Filed 10-4-11; 8:45 am]

BILLING CODE 4910-13-P